DEPARTMENT OF DEFENSE

Department of the Air Force

Intent of Grant an Exclusive License

Pursuant to Title 37, Code of Federal Regulations, part 404 et seq., which implements Public Law 96-517, as amended, the Department of the Air Force announces its intention to grant an exclusive license in favor of Photodigm, Inc., a corporation of Texas, having a place of business at 1155 E. Collins Blvd Ste 200, Richardson, Texas, in the following federally-owned patent: United States Patent Number 5,727,016, titled “Spatially Coherent Diode Laser with Lens like Media and Feedback from Straight-toothed Gratings,” invented by Alan H. Paxton.

For an objection to the prospective license to be considered, it must be submitted in writing and be received at the following address within 15 days from the publication of this Notice. Written objection should be sent to: 377th ABW/JAN (Air Base Wing, Contracts Law & Laboratory Support Division), Attn: James M. Skorich, 3550 Aberdeen Avenue SE., Kirtland AFB, NM 87117-5776.

Bruno Leuyer,
Air Force Federal Register Liaison Officer.

[FR Doc. 05-15579 Filed 8-5-05; 8:45 am]

BILLING CODE 5001-06-P